ENVIRONMENTAL PROTECTION AGENCY

[Regional Docket Nos. II-2000-01, -03; FRL-7819-1]

Notice of Final Orders on Remand; Clean Air Act Operating Permit Program; Petitions for Objection to State Operating Permits for the Albert Einstein College of Medicine at Yeshiva University and the Kings Plaza Total Energy Plant

AGENCY: Environmental Protection Agency (EPA).

ACTION: Notice of final order on remand, addressing two State operating permits.

SUMMARY: This document announces that the EPA Administrator has addressed on remand two citizen petitions asking EPA to object to operating permits issued to two facilities by the New York State Department of Environmental Conservation (NYSDEC). On February 27, 2003, the United States Court of Appeals for the Second Circuit granted a petition for review brought by NYPIRG challenging the EPA's final Orders denying its administrative petitions seeking objections to the Action Packaging, Kings Plaza, and Yeshiva permits. New York Public Interest Research Group, Inc. v. Whitman, 321 F.3d 316 (2nd Cir.) (hereinafter “NYPIRG”). The court vacated EPA's denial of NYPIRG's petitions and remanded the decisions for further proceedings consistent with the court's opinion. Specifically, in response to the court's remand, the Administrator has partially granted and partially denied the petitions submitted by the New York Public Interest Research Group (NYPIRG) to object to the state operating permits issued to the Albert Einstein College of Medicine at Yeshiva University and the Kings Plaza Total Energy Plant. The facility operated by Action Packaging ceased operations as of September 31, 2002, surrendered its permit, and will not be seeking a renewal permit.

Pursuant to section 505(b)(2) of the Clean Air Act (Act), Petitioner may seek judicial review of those portions of the petitions which EPA denied in the United States Court of Appeals for the appropriate circuit. Any petition for review shall be filed within 60 days from the date this notice appears in the Federal Register, pursuant to section 307 of the Act.

ADDRESSES: You may review copies of the final order, the petitions, and other supporting information at the EPA Region 2 Office, 290 Broadway, New York, New York 10007-1866. If you wish to examine these documents, you should make an appointment at least 24 hours before visiting day. Additionally, the final order is available electronically at: http://www.epa.gov/region07/programs/artd/air/title5/petitiondb/petitiondb2000.htm.

FOR FURTHER INFORMATION CONTACT: Steven Riva, Chief, Permitting Section, Air Programs Branch, Division of Environmental Planning and Protection, EPA Region 2, 290 Broadway, 25th Floor, New York, New York 10007-1866, telephone (212) 637-4074.

SUPPLEMENTARY INFORMATION: The Act affords EPA a 45-day period to review, and object to as appropriate, operating permits proposed by state permitting authorities. Section 505(b)(2) of the Act authorizes any person to petition the EPA Administrator within 60 days after the expiration of this review period to object to state operating permits if EPA has not done so. Petitions must be based only on objections to the permit that were raised with reasonable specificity during the public comment period provided by the state, unless the petitioner demonstrates that it was impracticable to raise these issues during the comment period or the grounds for the issues arose after this period.

I. Yeshiva

On March 15, 2000, the EPA received a petition from NYPIRG, requesting that EPA object to the issuance of the title V operating permit for the Albert Einstein College of Medicine at Yeshiva University. The EPA administrator first responded to this petition on January 16, 2002, denying it on all counts. In the Matter of the Albert Einstein College of Medicine of Yeshiva University (“Yeshiva”), Petition No. II-2000-01, January 16, 2002. On August 26, 2004, in response to the NYPIRG decision remanding the January 16 Order to EPA, the Administrator issued an order partially granting and partially denying the Yeshiva petition. The order explains the reasons behind EPA's conclusion that the NYSDEC must reopen the permit to: (1) Publish a public notice for the Yeshiva permit with language on how to request a hearing; (2) apply the proper standard when deciding whether to hold a hearing, if one is requested; (3) prepare a statement of basis with the draft permit; and (4) describe the applicability of 40 CFR part 68. The order also explains the reasons for denying the initial compliance certification issue, which is the fifth petition issue addressed per the remand.

II. Kings Plaza

On May 5, 2000, the EPA received a petition from NYPIRG, requesting that EPA object to the issuance of the title V operating permit for the Kings Plaza Total Energy Plant. The EPA Administrator first responded to this petition on January 16, 2002, granting it in part and denying it in part. In the Matter of Kings Plaza Total Energy Plant, Petition Number II-2000-03, January 16, 2002 (“Kings Plaza”). On August 26, 2004, in response to the NYPIRG decision remanding the January 16 Order to EPA, the Administrator issued an order partially granting and partially denying the petition. The order explains the reasons behind EPA's conclusion that the NYSDEC must require the permittee to submit a new compliance certification in accordance with 40 CFR 70.5(c)(9)(i). The Order also explains the reasons for denying the other four remand issues.

Dated: September 16, 2004.
Jane M. Kenny,
Regional Administrator, Region 2.

[FR Doc. 04-21583 Filed 9-24-04; 8:45 am]

BILLING CODE 6560-50-P